DEPARTMENT OF TRANSPORTATION

Federal Aviation Administration

Notice to Manufacturers of Foreign Object Debris (FOD) Detection Equipment

AGENCY: Federal Aviation Administration (FAA), US DOT.

ACTION: Notice to manufacturers of Foreign Object Debris (FOD) detection equipment.

SUMMARY: Projects funded under the Airport Improvement Program (AIP) must meet the requirements of 49 U.S.C. 50101, Buy American Preferences. The Federal Aviation Administration is considering issuing waivers to foreign manufacturers of FOD detection equipment that meet the requirements of FAA Advisory Circular 150/5220-24, Airport Foreign Object Debris (FOD) Detection Equipment. This notice requests information from manufacturers of equipment meeting the Advisory Circular requirements to determine whether a waiver of the Buy American Preferences should be issued.

FOR FURTHER INFORMATION CONTACT: Ms. Nancy S. Williams, Airports Financial Assistance, APP 501, Room 619, FAA, 800 Independence Avenue, SW., Washington, DC 20591, Telephone (202) 267-8822.

SUPPLEMENTARY INFORMATION: The Federal Aviation Administration manages a federal grant program for airports called the Airport Improvement Program (AIP). AIP grant recipients must follow 49 U.S.C. 50101, Buy American Preferences.

Under 49 U.S.C. 50101(b)(3), the Secretary of Transportation may waive the Buy American preference requirement if the goods are not produced in a sufficient and reasonably available amount or are not of a satisfactory quality.

On September 30, 2009, FAA published Advisory Circular (AC) 150/5220-24, Airport Foreign Object Debris (FOD) Detection Equipment. The AC specified the requirements for FOD detection equipment at airports. While developing this AC, FAA was unable to locate enough United States of America (USA) manufacturers of stationary FOD detection equipment to produce them in a sufficient and reasonably available amount.

If FAA cannot find that there are enough USA manufacturers of FOD detection equipment, it will issue a nationwide waiver to the foreign manufacturers of FOD detection that it has identified as being capable of meeting the AC requirements.

The purpose of this notice is to request manufacturers of FOD detection equipment, both domestic and foreign, to advise FAA of equipment that they manufacture that can meet the AC requirements. The detailed instructions for submitting the qualifications statement, including forms, may be found on the FAA Web site at: http://www.faa.gov/airports/aip/procurement/federal_contract_provisions/ at the tab entitled, FOD Detection Equipment Request for Qualifications.

After review, FAA may issue a nationwide waiver to Buy American for the foreign manufacturers of FOD detection equipment. This “Nationwide Waiver” would allow the equipment to be used on airport projects without having to receive separate project waivers. Having a nationwide waiver would allow projects to start quickly without having to wait for the Buy American analysis to be completed for every project, while still assuring that the requirements of Buy American have been met.

The items that have been granted a “Nationwide Waiver” can be found on the FAA Web site at: http://www.faa.gov/airports/aip/procurement/federal_contract_provisions/ at the tab entitled, Equipment Meeting Buy American Requirements.

Issued in Washington, DC, July 23, 2010.
Frank J. San Martin,
Manager, Airports Financial Assistance Division.

[FR Doc. 2010-19272 Filed 8-4-10; 8:45 am]

BILLING CODE 4910-13-P